DEPARTMENT OF COMMERCE

National Oceanic and Atmospheric Administration

[I.D. 101806B]

Gulf of Mexico Fishery Management Council; Public Meetings

AGENCY: National Marine Fisheries Service (NMFS), National Oceanic and Atmospheric Administration (NOAA), Commerce.

ACTION: Notice of closed session Advisory Panel (AP) Selection Committee conference call.

SUMMARY: The Gulf of Mexico Fishery Management Council (Council) will convene its Advisory Panel Selection Committee via Conference Call to review AP Member Violations Material for recommendation to the Council.

DATES: The Conference Call will be held on Tuesday, November 7, 2006, from 11 a.m. EDT to 11:30 a.m. EDT.

ADDRESSES: The meeting will be held via Closed Session conference call.

Council address: Gulf of Mexico Fishery Management Council, 2203 North Lois Avenue, Suite 1100, Tampa, FL 33607.

FOR FURTHER INFORMATION CONTACT: Mr. Wayne Swingle, Executive Director, Gulf of Mexico Fishery Management Council; telephone: (813) 348-1630.

SUPPLEMENTARY INFORMATION: The Gulf of Mexico Fishery Management Council (Council) will convene its Advisory Panel Selection Committee via Conference Call to review AP Member Violations Material in a closed session conference call on Tuesday, November 7, 2006, at 11 a.m. EDT. The Committee recommendations will be presented to the Council at the November 13 - 17, 2006 Council Meeting in Galveston, TX.

Special Accommodations

This meeting is physically accessible to people with disabilities. Requests for sign language interpretation or other auxiliary aids should be directed to Tina Trezza at the Council (see ADDRESSES) at least 5 working days prior to the meeting.

Dated: October 18, 2006.
Tracey L. Thompson,
Acting Director, Office of Sustainable Fisheries, National Marine Fisheries Service.

[FR Doc. E6-17685 Filed 10-20-06; 8:45 am]

BILLING CODE 3510-22-S